NATIONAL ARCHIVES AND RECORDS ADMINISTRATION

36 CFR Part 1254

RIN 3095-AB01

Research Room Procedures

AGENCY: National Archives and Records Administration (NARA).

ACTION: Proposed rule.

SUMMARY: NARA proposes to amend its regulations on use of NARA research rooms to add a policy on use of public access personal computers (workstations) in the research rooms. These NARA-provided workstations will provide researcher access to the Internet. We are also clarifying that, in research rooms where the plastic researcher identification card is also used with the facility's security system, we will issue a plastic card to researchers who have a paper card from another NARA facility. This proposed rule will affect researchers who use NARA research facilities nationwide.

DATES: Comments are due by November 6, 2001.

ADDRESSES: Comments must be sent to Regulation Comments Desk (NPOL), Room 4100, Policy and Communications Staff, National Archives and Records Administration, 8601 Adelphi Road, College Park, MD 20740-6001. They may be faxed to 301-713-7270. You may also comment via the Internet to comments@NARA.GOV. Please submit Internet comments as an ASCII file avoiding the use of special characters and any form of encryption. Please also include “Attn: 3095-AB01” and your name and return address in your Internet message. If you do not receive a confirmation from the system that we have received your Internet message, contact the Regulation Comment desk at 301-713-7360, ext. 226.

FOR FURTHER INFORMATION CONTACT: Nancy Allard at telephone number 301-713-7360, ext. 226, or fax number 301-713-7270.

SUPPLEMENTARY INFORMATION:

Public Access Personal Computer Workstations in the Research Rooms § 1254

Before September 30, 2001, NARA will have installed personal computer workstations with Internet access in research and/or consultation rooms in all NARA archival facilities, including regional archives and Presidential libraries, for the exclusive use of researchers. There will be at least one workstation at each facility. Space constraints in many of the facilities limit the number of workstations that can be provided.

These computers will provide Internet access for research purposes, such as access to NARA's Archival Information Locator (NAIL), and NAIL's successor, the Archival Research Catalog (ARC). Computers designated for public use provide Internet access only. At least one of the public Internet access workstations in each facility complies with the Workforce Investment Act of 1998, ensuring comparable accessibility to individuals with disabilities.

Use of the workstations will be on a first-come, first-served basis. A 30-minute time limit may be imposed on the use of the equipment when others are waiting to use a workstation. This policy is compatible with our policy for limiting the length of time microform readers and self-service copiers may be used when others are waiting.

Because of the possibility of introducing a virus to NARA's computer network, researchers may not load files or software on these computers. For the same reason, researchers may not use personally owned diskettes to download information. Researchers may download information to diskettes furnished by NARA and print information to an on-site printer. Based on the experience of several NARA facilities that already have Internet capability in the research room, we expect low to moderate use of the NARA-provided diskettes and printers. Therefore, we do not intend to charge for these services.

Validity of Paper Researcher Identification Cards at all NARA Facilities

Currently NARA researcher identification cards issued at one NARA facility are valid at all NARA facilities. At our College Park facility, a plastic researcher identification card that works with our security system is issued. We intend to expand use of the plastic card to the National Archives Building in downtown Washington, DC, and possibly to other NARA facilities in the future. We are modifying the existing rule to provide that NARA will issue a plastic identification card (at no charge) to replace a previously-issued paper one when a researcher goes for the first time to a facility that use the plastic cards.

This proposed rule is not a significant regulatory action for the purposes of Executive Order 12866 and has not been reviewed by the Office of Management and Budget. As required by the Regulatory Flexibility Act, I certify that this rule will not have a significant impact on a substantial number of small entities because it applies only to individuals conducting research on NARA premises. This regulation does not have any federalism or tribal implications.

List of Subjects in 36 CFR Part 1254

Archives and records.

For the reasons set forth in the preamble, NARA proposes to amend part 1254 of title 36, Code of Federal Regulations, as follows:

PART § 1254—AVAILABILITY OF RECORDS AND DONATED HISTORICAL MATERIALS

1. The authority citation for Part 1254 continues to read as follows:

Authority: 44 U.S.C. 2101-2118; 5 U.S.C. 552; and E.O. 12600, 52 FR 23781, 3 CFR, 1987 Comp., p. 235.

2. Revise § 1254.6 to read as follows::

§ 1254.6 Researcher identification card.

(a) An identification card is issued to each person who is approved to use records other than microfilm. Cards are valid for three years, and may be renewed upon application. Cards are valid at each facility, except as described in paragraph (b) of this section. They are not transferable and must be presented if requested by a guard or research room attendant.

(b) At the National Archives in College Park and other NARA facilities that issue and use plastic researcher identification cards as part of their security systems, paper researcher identification cards issued at other NARA facilities are not valid. In facilities that use plastic researcher identification cards, NARA will issue a plastic card to replace the paper card at no charge.

3. Add § 1254.25 to read as follows:

§ 1254.25 Rules for public access use of the Internet on NARA-supplied personal computers.

(a) Public access personal computers (workstations) are available for Internet use in all NARA research rooms. The number of workstations varies per location. These workstations are intended for research purposes and are provided on a first-come-first-served basis. When others are waiting to use the workstation, a 30-minute time limit may be imposed on the use of the equipment.

(b) Researchers should not expect privacy while using these workstations. These workstations are operated and maintained on a United States Government system, and activity may be monitored to protect the system from unauthorized use. By using this system, researchers expressly consent to such monitoring and the reporting of unauthorized use to the proper authorities.

(c) At least one Internet access workstation will be provided in each facility that complies with the Workforce Investment Act of 1998, ensuring comparable accessibility to individuals with disabilities.

(d) Researchers may download information to a diskette and print materials, but the research room staff will furnish the diskettes and paper. Researchers may not use personally owned diskettes on NARA personal computers.

(e) Researchers may not load files or any type of software on these workstations.

Dated: August 31, 2001.
John W. Carlin,
Archivist of the United States.

[FR Doc. 01-22484 Filed 9-6-01; 8:45 am]

BILLING CODE 7515-01-P